ENVIRONMENTAL PROTECTION AGENCY

[FRL-8924-1; Docket ID No. EPA-HQ-ORD-2009-0178]

Draft Toxicological Review of Pentachlorophenol: In Support of the Summary Information in the Integrated Risk Information System (IRIS)

AGENCY: Environmental Protection Agency (EPA).

ACTION: Notice of peer-review workshop.

SUMMARY: EPA is announcing that Versar, Inc., an EPA contractor for external scientific peer review, will convene an independent panel of experts and organize and conduct an external peer-review workshop to review the external review draft document titled, “Toxicological Review of Pentachlorophenol: In Support of Summary Information on the Integrated Risk Information System (IRIS)” (EPA/635/R-09/004). The draft document was prepared by the National Center for Environmental Assessment (NCEA) within EPA's Office of Research and Development. EPA previously announced the 60-day public comment period (ending July 6, 2009) for the draft document in the Federal Register on May 7, 2009 (74 FR 21362). EPA will consider public comments and recommendations from the expert panel workshop as EPA finalizes the draft document.

The public comment period and the external peer-review workshop are separate processes that provide opportunities for all interested parties to comment on the document. EPA intends to forward public comments submitted in accordance with the May 7, 2009, Federal Register notice (74 FR 21362) to Versar, Inc., for consideration by the external peer-review panel prior to the workshop.

EPA is releasing this draft document solely for the purpose of pre-dissemination peer review under applicable information quality guidelines. This document has not been formally disseminated by EPA. It does not represent and should not be construed to represent any Agency policy or determination.

Versar, Inc., invites the public to register to attend this workshop as observers. In addition, Versar, Inc., invites the public to give oral comments at the workshop regarding the draft document under review. Space is limited, and reservations will be accepted on a first-come, first-served basis. The draft document and EPA's peer-review charge are available primarily via the Internet on NCEA's home page under the Recent Additions and Publications menus at http://www.epa.gov/ncea. In preparing a final report, EPA will consider Versar's report of the comments and recommendations from the external peer-review workshop and any public comments that EPA receives in accordance with 74 FR 21362, May 7, 2009.

DATES: The peer-review workshop will be held on Tuesday, August 4, 2009, beginning at approximately 8:30 a.m. and ending at approximately 5 p.m., Eastern Daylight Time. Observers must register by Tuesday, July 28, 2009. At the time of registration, please indicate that you wish to make a brief oral comment at the workshop.

ADDRESSES: The peer-review workshop will be held at the Courtyard Arlington Crystal City/Reagan National Airport, 2899 Jefferson Davis Highway, Arlington, Virginia 22202. Versar, Inc. is organizing, convening, and conducting the peer-review workshop. To attend the workshop as an observer, register by Tuesday, July 28, 2009 via the Internet at http://epa.versar.com/pentachlorophenol. You may also register by e-mail at ssarraino@versar.com (subject line: Pentachlorophenol Peer-Review Workshop), by phone: 703-750-3000 x. 316, or by faxing a registration request to 703-642-6954 (please reference the “Pentachlorophenol Peer-Review Workshop” and include your name, title, affiliation, full address and contact information).

The draft “Toxicological Review of Pentachlorophenol: In Support of Summary Information on the Integrated Risk Information System (IRIS)” is available primarily via the Internet on the NCEA home page under the Recent Additions and Publications menus at http://www.epa.gov/ncea. A limited number of paper copies are available from the Information Management Team, NCEA, telephone: 703-347-8561; facsimile: 703-347-8691. If you are requesting a paper copy, please provide your name, mailing address, and the document title, “Toxicological Review of Pentachlorophenol: In Support of Summary Information on the Integrated Risk Information System (IRIS).” Copies are not available from Versar, Inc.

Information on Services for Individuals With Disabilities: EPA welcomes the attendance of the public at the Pentachlorophenol Peer-Review Workshop and will make every effort to accommodate persons with disabilities. For information on access or services for individuals with disabilities, please contact Versar, Inc. (see below for contact information).

FOR FURTHER INFORMATION CONTACT: Questions regarding information, registration, access or services for individuals with disabilities, or logistics for the external peer-review workshop should be directed to Versar, Inc., 6850 Versar Center, Springfield, VA 22151; telephone: 703-750-3000 x. 316; facsimile: 703-347-8691; or e-mail: ssarraino@versar.com (subject line: Pentachlorophenol Peer-Review Workshop). To request accommodation of a disability, please contact Versar, Inc., preferably at least 10 days prior to the meeting, to give as much time as possible to process your request.

If you need technical information about the document, please contact Catherine Gibbons, IRIS Staff, National Center for Environmental Assessment, (8601P), U.S. EPA, 1200 Pennsylvania Avenue, NW., Washington, DC 20460; telephone: 703-603-0704; facsimile: 703-347-8689; or e-mail: gibbons.catherine@epa.gov.

SUPPLEMENTARY INFORMATION:

I. Summary of Information About the Integrated Risk Information System (IRIS)

IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

II. Workshop Information

Members of the public may attend the workshop as observers, and there will be a limited time for oral comments from the public. The deadline for registration is July 28, 2009. Please let Versar, Inc. know if you wish to make oral comments during the workshop. Space is limited, and reservations will be accepted on a first-come, first-served basis.

Dated: June 22, 2009.
Rebecca Clark,
Director, National Center for Environmental Assessment.

[FR Doc. E9-15313 Filed 6-26-09; 8:45 am]

BILLING CODE 6560-50-P